DEPARTMENT OF COMMERCE

International Trade Administration

[C-570-980]

Crystalline Silicon Photovoltaic Cells, Whether or Not Assembled Into Modules, From the People's Republic of China: Amended Final Results of Countervailing Duty Administrative Review; 2016

AGENCY: Enforcement and Compliance, International Trade Administration, Department of Commerce.

SUMMARY: The Department of Commerce (Commerce) is amending the final results of the countervailing duty (CVD) administrative review of crystalline silicon photovoltaic cells, whether or not assembled into modules (solar cells), from the People's Republic of China (China) to correct two ministerial errors. The period of review (POR) is January 1, 2016 through December 31, 2016.

DATES: Applicable December 13, 2019.

FOR FURTHER INFORMATION CONTACT: Gene H. Calvert, AD/CVD Operations, Office VII, Enforcement and Compliance, International Trade Administration, U.S. Department of Commerce, 1401 Constitution Avenue NW, Washington, DC 20230; telephone (202) 482-3586.

Background

In accordance with section 751(a)(1) of the Tariff Act of 1930, as amended (the Act), and 19 CFR 351.221(b)(5), on August 28, 2019, Commerce published its final results in the administrative review of the CVD order on solar cells from China covering the POR.¹ On September 9, 2019, Jinko Solar Co., Ltd, a mandatory respondent in this administrative review, timely submitted ministerial error allegations concerning the Final Results.² No other parties submitted ministerial error allegations or commented on Jinko Solar's allegations. Complaints were filed with the U.S. Court of International Trade (the Court) challenging the Final Results. The United States sought leave from the Court to address these ministerial error allegations. The Court granted the United States' request and allowed until December 13, 2019 to publish any amended final results in the Federal Register.

¹ See Crystalline Silicon Photovoltaic Cells, Whether or Not Assembled Into Modules, from the People's Republic of China: Final Results of Countervailing Duty Administrative Review and Rescission of Review, in Part; 2016, 84 FR 45125 (August 28, 2019) and accompanying Issues and Decision Memorandum (Final Results Decision Memorandum) (collectively, Final Results).

² Jinko Solar Co., Ltd. filed its allegations on behalf of itself and certain affiliated companies: Jinko Solar Import and Export Co., Ltd.; JinkoSolar International Limited; and Zhejiang Jinko Solar Co., Ltd. (collectively, Jinko Solar). See Jinko Solar's Letter, “Countervailing Duty Order on Crystalline Silicon Photovoltaic Cells, Whether or Not Assembled into Modules: Jinko's Ministerial Error Comments,” dated September 9, 2019 (Ministerial Error Allegations).

Scope of the Order

The merchandise covered by the CVD order is solar cells from China, whether or not partially or fully assembled into other products, including, but not limited to, modules, laminates, panels, and building integrated materials. A full description of the scope of the order is contained in the Final Results Decision Memorandum.³

³ See Final Results Decision Memorandum at 3-4.

Ministerial Errors

Section 751(h) of the Act and 19 CFR 351.224(f) define a “ministerial error” as an error in addition, subtraction, or other arithmetic function, clerical error resulting from inaccurate copying, duplication, or the like, and any other similar type of unintentional error which the Secretary considers ministerial. As discussed in the Response to Ministerial Error Allegations, Commerce finds that the errors alleged by Jinko Solar regarding the calculations for the benchmarks used to calculate benefits with respect to the Provision of Electricity for Less Than Adequate Remuneration (LTAR) Program and the Provision for Aluminum Extrusions for LTAR Program constitute ministerial errors within the meaning of 19 CFR 351.224(f).⁴

⁴ See Memorandum, “Countervailing Duty Administrative Review of Crystalline Silicon Photovoltaic Cells, Whether or Not Assembled Into Modules, from the People's Republic of China; 2016: Response to Ministerial Error Allegations in the Final Results,” dated concurrently with, and hereby adopted by, this notice (Response to Ministerial Error Allegations).

In accordance with section 751(h) of the Act and 19 CFR 351.224(e), Commerce is amending the Final Results to correct these ministerial errors. Specifically, Commerce is amending the net subsidy rates for Jinko Solar and for the companies for which a review was requested, but which were not selected as mandatory company respondents (i.e., the non-selected companies subject to this administrative review).⁵ Commerce notes that correcting these two ministerial errors has no impact on the subsidy rate calculated in the Final Results for the other mandatory respondent in this administrative review, Canadian Solar Inc. (Canadian Solar). The revised net subsidy rates are provided below.

⁵ Consistent with the Final Results, for the non-selected companies, Commerce calculated an amended rate by weight-averaging the amended subsidy rate for Jinko Solar with the subsidy rate calculated in the Final Results for Canadian Solar (as noted above, correcting these ministerial errors has no impact on the subsidy rate calculated for Canadian Solar in the Final Results) using their publicly-ranged sales data for exports of subject merchandise to the United States during the POR.

Amended Final Results

As a result of correcting the two ministerial errors, Commerce determines the countervailable subsidy rates for the producers/exporters under review to be as follows:

Company | Subsidy rate (percent ad valorem)
Canadian Solar Inc. and Cross-Owned Affiliates ⁶ | 9.70
Jinko Solar Import and Export Co., Ltd. and Cross-Owned Affiliates ⁷ | 12.70

Review-Specific Rate Applicable to the Non-Selected Companies Subject to this Review:

⁶ Cross-owned affiliates are: Canadian Solar Inc.; Canadian Solar Manufacturing (Luoyang) Inc.; Canadian Solar Manufacturing (Changshu) Inc.; CSI Cells Co., Ltd.; CSI Solar Power (China) Inc. (name was changed to CSI Solar Power Group Co., Ltd. in December 2016); CSI Solartronics (Changshu) Co., Ltd.; CSI Solar Technologies Inc.; CSI New Energy Holding Co., Ltd. (name was CSI Solar Manufacture Inc. until July 2015); CSI-GCL Solar Manufacturing (Yancheng) Co., Ltd.; Changshu Tegu New Materials Technology Co., Ltd.; Changshu Tlian Co., Ltd.; and Suzhou Sanysolar Materials Technology Co., Ltd.

⁷ Cross-owned affiliates are: Jinko Solar Import and Export Co., Ltd.; Jinko Solar Co., Ltd.; Zhejiang Jinko Solar Co., Ltd.; Jinko Solar (Shanghai) Management Co., Ltd.; Jiangxi Jinko Photovoltaic Materials Co., Ltd.; and Xinjiang Jinko Solar Co., Ltd.

Producer/exporter | Subsidy rate (percent ad valorem)
Baoding Jiasheng Photovoltaic Technology Co., Ltd | 11.76
Baoding Tianwei Yingli New Energy Resources Co., Ltd | 11.76
Beijing Tianneng Yingli New Energy Resources Co., Ltd | 11.76
Canadian Solar (USA) Inc | 11.76
Changzhou Trina Solar Energy Co., Ltd | 11.76
Changzhou Trina Solar Yabang Energy Co., Ltd | 11.76
Chint Solar (Zhejiang) Co., Ltd | 11.76
Dongguan Sunworth Solar Energy Co., Ltd | 11.76
ERA Solar Co. Limited | 11.76
ET Solar Energy Limited | 11.76
Hainan Yingli New Energy Resources Co., Ltd | 11.76
Hangzhou Sunny Energy Science and Technology Co., Ltd | 11.76
Hengdian Group DMEGC Magnetics Co., Ltd | 11.76
Hengshui Yingli New Energy Resources Co., Ltd | 11.76
JA Solar Technology Yangzhou Co., Ltd | 11.76
JA Technology Yangzhou Co., Ltd | 11.76
Jiangsu High Hope Int'l Group | 11.76
Jiawei Solarchina (Shenzhen) Co., Ltd | 11.76
Jiawei Solarchina Co., Ltd | 11.76
JingAo Solar Co., Ltd | 11.76
Jinko Solar (U.S.) Inc. | 11.76
Jinko Solar International Limited | 11.76
Lightway Green New Energy Co., Ltd | 11.76
Lixian Yingli New Energy Resources Co., Ltd | 11.76
Luoyang Suntech Power Co., Ltd | 11.76
Nice Sun PV Co., Ltd | 11.76
Ningbo Qixin Solar Electrical Appliance Co., Ltd | 11.76
Risen Energy Co., Ltd | 11.76
Shanghai BYD Co., Ltd | 11.76
Shanghai JA Solar Technology Co., Ltd | 11.76
Shenzhen Glory Industries Co., Ltd | 11.76
Shenzhen Topray Solar Co., Ltd | 11.76
Sumec Hardware & Tools Co., Ltd | 11.76
Systemes Versilis, Inc | 11.76
Taizhou BD Trade Co., Ltd | 11.76
tenKsolar (Shanghai) Co., Ltd | 11.76
Tianjin Yingli New Energy Resources Co., Ltd | 11.76
Toenergy Technology Hangzhou Co., Ltd | 11.76
Trina Solar (Changzhou) Science & Technology Co., Ltd | 11.76
Wuxi Suntech Power Co., Ltd | 11.76
Yancheng Trina Solar Energy Technology Co., Ltd | 11.76
Yingli Energy (China) Co., Ltd | 11.76
Yingli Green Energy Holding Company Limited | 11.76
Yingli Green Energy International Trading Company Limited | 11.76
Zhejiang Era Solar Technology Co., Ltd | 11.76
Zhejiang Sunflower Light Energy Science & Technology Limited Liability Company | 11.76

Assessment Rates/Cash Deposits

Normally, Commerce would issue appropriate assessment instructions to U.S. Customs and Border Protection (CBP) 15 days after the date of publication of these amended final results of review, to liquidate shipments of subject merchandise produced and/or exported by the companies listed above entered, or withdrawn from warehouse, for consumption on or after January 1, 2016 through December 31, 2016. However, between September 27, 2019 and October 28, 2019, the Court enjoined liquidation of certain entries that are subject to the Final Results.⁸ Accordingly, Commerce will not instruct CBP to assess countervailing duties on those enjoined entries pending resolution of the associated liquidation.

⁸ The Court issued statutory injunctions under case numbers 19-00182 (September 27, 2019), 19-00178 (October 4, 2019), and 19-00183 (October 28, 2019).

Commerce intends to instruct CBP to collect cash deposits of estimated countervailing duties, in the amounts shown above for the companies listed above, on shipments of subject merchandise entered, or withdrawn from warehouse, for consumption, on or after July 28, 2019, which is the date of the Final Results. For all non-reviewed firms, Commerce will instruct CBP to collect cash deposits at the most recent company-specific or all-others rate applicable to the company, as appropriate. These cash deposits, when imposed, shall remain in effect until further notice.

Administrative Protective Order

This notice also serves as a reminder to parties that are subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

Commerce intends to disclose the calculations performed for these amended final results to interested parties within five business days of the date of this notice in accordance with 19 CFR 351.224(b).

Commerce is issuing and publishing these amended final results in accordance with sections 751(h) and 771(i)(1) of the Act, and 19 CFR 351.224(e).

Dated: December 9, 2019.
Jeffrey I. Kessler,
Assistant Secretary for Enforcement and Compliance.

[FR Doc. 2019-26817 Filed 12-12-19; 8:45 am]

BILLING CODE 3510-DS-P